ENVIRONMENTAL PROTECTION AGENCY

40 CFR Part 52

[R04-OAR-2004-NC-0002-200417(a); FRL-7815-9]

Approval and Promulgation of Implementation Plans; North Carolina: Raleigh/Durham Area and Greensboro/Winston-Salem/High Point Area Maintenance Plan Updates

AGENCY: Environmental Protection Agency (EPA).

ACTION: Direct final rule.

SUMMARY: The EPA is approving revisions to the State Implementation Plan (SIP) submitted by the North Carolina Department of Environment and Natural Resources (NCDENR) on June 4, 2004. This SIP revision satisfies the requirement of the Clean Air Act (CAA) as amended in 1990 for the second 10-year updates of both the Raleigh/Durham area (Durham and Wake Counties, and a portion of Granville County) and the Greensboro/Winston-Salem/High Point area (Davidson, Forsyth, and Guilford Counties, and a portion of Davie County) 1-hour ozone maintenance plans.

DATES: This direct final rule is effective November 19, 2004, without further notice, unless EPA receives adverse comment by October 20, 2004. If adverse comment is received, EPA will publish a timely withdrawal of the direct final rule in the Federal Register and inform the public that the rule will not take effect.

ADDRESSES: Submit your comments, identified by Regional Material in EDocket (RME) ID No. R04-OAR-2004-NC-0002, by one of the following methods:

1. Federal eRulemaking Portal: http://www.regulations.gov. Follow the on-line instructions for submitting comments.

2. Agency Web site: http://docket.epa.gov/rmepub/ RME, EPA's electronic public docket and comment system, is EPA's preferred method for receiving comments. Once in the system, select “quick search,” then key in the appropriate RME Docket identification number. Follow the on-line instructions for submitting comments.

3. E-mail: delatorre.rosymar@epa.gov

4. Fax: 404-562-9019

5. Mail: “R04-OAR-2004-NC-0002”, Regulatory Development Section, Air Planning Branch, Air, Pesticides and Toxics Management Division, U.S. Environmental Protection Agency, Region 4, 61 Forsyth Street, SW., Atlanta, Georgia 30303-8960.

6. Hand Delivery or Courier. Deliver your comments to: Rosymar De La Torre Colón, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to RME ID No. R04-OAR-2004-NC-0002. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Regulatory Development Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding federal holidays.

FOR FURTHER INFORMATION CONTACT: Rosymar De La Torre Colón, Regulatory Development Section, Air Planning Branch, Air, Pesticides and Toxics Management Division, U.S. Environmental Protection Agency, Region 4, 61 Forsyth Street, SW., Atlanta, Georgia 30303-8960, (404) 562-8965, delatorre.rosymar@epa.gov, or Matt Laurita, Air Quality Modeling and Transportation Section, Air Planning Branch, Air, Pesticides and Toxics Management Division, U.S. Environmental Protection Agency, Region 4, 61 Forsyth Street, SW., Atlanta, Georgia 30303-8960, (404) 562-9044, laurita.matthew@epa.gov.

SUPPLEMENTARY INFORMATION:

I. General Information

A. How Can I Get Copies of This Document and Other Related Information?

In addition to the publicly available docket materials available for inspection electronically in Regional Material in EDocket, and the hard copy available at the Regional Office, which are identified in the ADDRESSES section above, copies of the State submittal and EPA's technical support document are also available for public inspection during normal business hours, by appointment at the State Air Agency, North Carolina Department of Environment and Natural Resources, Division of Air Quality, 2728 Capital Boulevard, Raleigh, North Carolina 27604.

II. Background

The air quality maintenance plan is a requirement of the 1990 CAA for nonattainment areas that come into compliance with the national ambient air quality standard (NAAQS). The Raleigh/Durham area (Durham and Wake Counties and a portion of Granville County) was not in compliance with the 1-hour ozone standard until air quality measurements from 1990 to 1992 showed that the area had attained the standard. The State subsequently requested that EPA redesignate these counties as attainment for the 1-hour ozone standard. Included with this request was a 10-year air quality maintenance plan covering the years 1993 through 2004. EPA found that this plan was developed in accordance with the appropriate guidelines and published approval of the plan on April 18, 1994, with an effective date of June 17, 1994 (59 FR 18300).

The Greensboro/Winston-Salem/High Point area (Davidson, Forsyth, and Guilford Counties and a portion of Davie County) was not in compliance with the 1-hour ozone standard until air quality measurements from 1990 to 1992 showed that the area had attained the standard. The State subsequently requested that EPA redesignate these counties as attainment for the 1-hour ozone standard. Included with this request was a 10-year air quality maintenance plan covering the years 1993 through 2004. EPA found that this plan was developed in accordance with the appropriate guidelines and published approval of the plan on September 9, 1993, with an effective date of November 8, 1993 (58 FR 47391).

III. Analysis of State's Submittal

On June 4, 2004, the NCDENR submitted revisions to North Carolina's SIP to provide a 10-year update to the maintenance plans as required by section 175A(b) of the CAA as amended in 1990. The underlying strategy of the maintenance plan is to maintain compliance with the 1-hour ozone standard by assuring that current and future emissions of Volatile Organic Compounds (VOC) and Nitrogen Oxides (NOX) remain at or below attainment year emission levels. The NCDENR has developed a comprehensive emissions inventory for the new base year of 2000 for use in projecting future emissions. The choice of a new base year is allowed because the areas were still in attainment in 2000. The estimated emissions of ozone precursors (i.e., VOC and NOX) for the Raleigh/Durham and Greensboro/Winston-Salem/High Point areas during the 2000 ozone season are provided in the following table. Projected VOC and NOX emissions for 2004, 2007, 2010, 2012, and 2015 are also provided.

Volatile Organic Compounds—Raleigh/Durham Area
[Tons per day]
VOC | Category | 2000 | 2004 | 2007 | 2010 | 2012 | 2015
Durham | Point | 1.80 | 1.77 | 1.77 | 1.90 | 1.91 | 1.98
| Area | 8.01 | 6.98 | 7.26 | 7.59 | 7.82 | 8.15
| On-road mobile | 10.76 | 8.74 | 7.09 | 5.69 | 4.95 | 4.31
| Non-road mobile | 5.07 | 4.61 | 4.05 | 3.81 | 3.82 | 3.92
Total | n/a | 25.64 | 22.10 | 20.17 | 18.99 | 18.50 | 18.36
Safety Margin | 2000 base year minus projected year total | n/a | 3.54 | 5.47 | 6.65 | 7.14 | 7.28
Granville* | Point | 0.79 | 0.77 | 0.77 | 0.80 | 0.85 | 0.89
| Area | 1.17 | 1.11 | 1.14 | 1.17 | 1.19 | 1.22
| On-road mobile | 0.73 | 0.61 | 0.47 | 0.39 | 0.34 | 0.30
| Non-road mobile | 0.30 | 0.28 | 0.24 | 0.23 | 0.23 | 0.24
Total | n/a | 2.99 | 2.77 | 2.62 | 2.59 | 2.61 | 2.65
Safety Margin | 2000 base year minus projected year total | n/a | 0.22 | 0.37 | 0.40 | 0.38 | 0.34
Wake | Point | 9.04 | 9.16 | 9.48 | 9.90 | 10.15 | 10.54
| Area | 27.52 | 25.72 | 27.46 | 29.37 | 30.63 | 32.59
| On-road mobile | 24.95 | 20.36 | 17.13 | 14.59 | 13.03 | 11.76
| Non-road mobile | 15.66 | 13.40 | 10.76 | 9.61 | 9.61 | 9.89
Total | n/a | 77.17 | 68.64 | 64.83 | 63.47 | 63.42 | 64.78
Safety Margin | 2000 base year minus projected year total | n/a | 8.53 | 12.34 | 13.70 | 13.75 | 12.39
Overall Total | n/a | 105.81 | 93.52 | 87.63 | 85.04 | 84.53 | 85.79
Total Safety Margin | n/a | n/a | 12.29 | 18.18 | 20.76 | 21.28 | 20.02
*Partial County.

Nitrogen Oxides—Raleigh/Durham Area
[Tons per day]
NOX | Category | 2000 | 2004 | 2007 | 2010 | 2012 | 2015
Durham | Point | 3.84 | 4.10 | 4.29 | 4.54 | 4.70 | 4.93
| Area | 0.37 | 0.39 | 0.41 | 0.43 | 0.44 | 0.45
| On-road mobile | 22.38 | 17.99 | 13.65 | 9.96 | 7.90 | 5.55
| Non-road mobile | 9.64 | 9.39 | 9.04 | 8.58 | 8.37 | 8.27
Total | n/a | 36.23 | 31.87 | 27.39 | 23.51 | 21.41 | 19.20
Safety Margin | 2000 base year minus projected year total | n/a | 4.36 | 8.84 | 12.72 | 14.82 | 17.03
Granville* | Point | 0.28 | 0.30 | 0.31 | 0.33 | 0.34 | 0.35
| Area | 0.07 | 0.07 | 0.08 | 0.08 | 0.08 | 0.09
| On-road mobile | 2.65 | 1.80 | 1.30 | 0.99 | 0.77 | 0.53
| Non-road mobile | 0.44 | 0.42 | 0.40 | 0.38 | 0.37 | 0.37
Total | n/a | 3.44 | 2.59 | 2.09 | 1.78 | 1.56 | 1.34
Safety Margin | 2000 base year minus projected year total | n/a | 0.85 | 1.35 | 1.66 | 1.88 | 2.10
Wake | Point | 2.68 | 2.83 | 2.98 | 3.16 | 3.27 | 3.42
| Area | 1.42 | 1.64 | 1.79 | 1.93 | 2.03 | 2.19
| On-road mobile | 55.28 | 46.86 | 36.95 | 26.23 | 21.23 | 15.30
| Non-road mobile | 19.05 | 18.39 | 17.54 | 16.44 | 15.93 | 15.58
Total | n/a | 78.43 | 69.72 | 59.26 | 47.76 | 42.46 | 36.49
Safety Margin | 2000 base year minus projected year total | n/a | 8.71 | 19.17 | 30.67 | 35.97 | 41.94
Overall Total | n/a | 118.09 | 104.18 | 88.74 | 73.06 | 65.43 | 57.03
Total Safety Margin | n/a | n/a | 13.91 | 29.35 | 45.04 | 52.66 | 61.06
*Partial County.

Volatile Organic Compounds—Greensboro/Winston-Salem/High Point Area
[Tons per day]
VOC | Category | 2000 | 2004 | 2007 | 2010 | 2012 | 2015
Davidson | Point | 17.51 | 17.26 | 17.31 | 17.35 | 17.41 | 17.40
| Area | 8.77 | 7.41 | 7.61 | 7.82 | 7.93 | 8.12
| On-road mobile | 8.37 | 6.49 | 5.44 | 4.46 | 3.91 | 3.43
| Non-road mobile | 2.19 | 1.99 | 1.76 | 1.62 | 1.61 | 1.64
Total | n/a | 36.84 | 33.15 | 32.12 | 31.25 | 30.86 | 30.59
Safety Margin | 2000 base year minus projected year total | n/a | 3.69 | 4.72 | 5.59 | 5.98 | 6.25
Davie* | Point | 0.00 | 0.00 | 0.00 | 0.00 | 0.00 | 0.00
| Area | 0.11 | 0.11 | 0.12 | 0.12 | 0.13 | 0.13
| On-road mobile | 0.02 | 0.01 | 0.01 | 0.01 | 0.01 | 0.01
| Non-road mobile | 0.01 | 0.01 | 0.01 | 0.01 | 0.01 | 0.01
Total | n/a | 0.14 | 0.13 | 0.14 | 0.14 | 0.15 | 0.15
Safety Margin | 2000 base year minus projected year total | n/a | 0.01 | 0.00 | 0.00 | −0.01 | −0.01
Forsyth | Point | 13.58 | 13.34 | 13.42 | 13.98 | 14.34 | 14.84
| Area | 12.48 | 10.88 | 11.34 | 11.82 | 12.13 | 12.58
| On-road mobile | 17.00 | 13.77 | 11.38 | 9.37 | 8.14 | 7.08
| Non-road mobile | 5.65 | 4.96 | 4.18 | 3.83 | 3.85 | 3.97
Total | n/a | 48.71 | 42.95 | 40.32 | 39.00 | 38.46 | 38.47
Safety Margin | 2000 base year minus projected year total | n/a | 5.76 | 8.39 | 9.71 | 10.25 | 10.24
Guilford | Point | 23.81 | 24.63 | 25.94 | 27.58 | 28.73 | 30.26
| Area | 20.01 | 17.19 | 17.93 | 18.71 | 19.19 | 19.90
| On-road mobile | 25.00 | 20.21 | 16.56 | 13.51 | 11.70 | 10.14
| Non-road mobile | 11.99 | 10.56 | 8.85 | 8.08 | 8.15 | 8.40
Total | n/a | 80.81 | 72.59 | 69.28 | 67.88 | 67.77 | 68.70
Safety Margin | 2000 base year minus projected year total | n/a | 8.22 | 11.53 | 12.93 | 13.04 | 12.11
Overall Total | n/a | 166.50 | 148.82 | 141.85 | 138.27 | 137.25 | 137.91
Total Safety Margin | n/a | n/a | 17.68 | 24.65 | 28.23 | 29.26 | 28.59
* Partial County.

Nitrogen Oxides—Greensboro/Winston-Salem/High Point Area
[Tons per day]
NOX | Category | 2000 | 2004 | 2007 | 2010 | 2012 | 2015
Davidson | Point | 14.60 | 10.23 | 7.40 | 7.89 | 8.21 | 8.64
| Area | 0.45 | 0.48 | 0.50 | 0.51 | 0.52 | 0.54
| On-road mobile | 16.23 | 12.78 | 9.90 | 7.35 | 5.94 | 4.29
| Non-road mobile | 4.27 | 4.10 | 3.92 | 3.76 | 3.68 | 3.61
Total | n/a | 35.55 | 27.59 | 21.72 | 19.51 | 18.35 | 17.08
Safety Margin | 2000 base year minus projected year total | n/a | 7.96 | 13.83 | 16.04 | 17.20 | 18.47
Davie* | Point | 0.00 | 0.00 | 0.00 | 0.00 | 0.00
| Area | 0.002 | 0.002 | 0.002 | 0.002 | 0.002 | 0.002
| On-road mobile | 0.05 | 0.04 | 0.03 | 0.02 | 0.02 | 0.01
| Non-road mobile | 0.02 | 0.01 | 0.01 | 0.01 | 0.01 | 0.01
Total | n/a | 0.07 | 0.05 | 0.04 | 0.03 | 0.03 | 0.02
Safety Margin | 2000 base year minus projected year total | n/a | 0.02 | 0.03 | 0.4 | 0.04
Forsyth | Point | 9.33 | 12.40 | 7.86 | 8.17 | 8.37 | 8.64
| Area | 0.48 | 0.51 | 0.53 | 0.55 | 0.56 | 0.58
| On-road mobile | 31.50 | 24.18 | 18.42 | 13.67 | 11.06 | 7.99
| Non-road mobile | 7.03 | 6.97 | 6.81 | 6.58 | 6.49 | 6.52
Total | n/a | 48.34 | 44.06 | 33.62 | 28.97 | 26.48 | 23.73
Safety margin | 2000 base year minus projected year total | n/a | 4.28 | 14.72 | 19.37 | 21.86 | 24.61
Guilford | Point | 2.42 | 2.57 | 2.69 | 2.84 | 2.94 | 3.07
| Area | 0.85 | 0.91 | 0.96 | 1.01 | 1.04 | 1.08
| On-road mobile | 44.7 | 34.03 | 25.74 | 18.97 | 15.36 | 11.07
| Non-road mobile | 14.71 | 15.22 | 14.84 | 14.29 | 14.07 | 14.03
Total | n/a | 62.68 | 52.73 | 44.23 | 37.11 | 33.41 | 29.25
Safety margin | 2000 base year minus projected year total | n/a | 9.95 | 18.45 | 25.57 | 29.27 | 33.43
Overall total | n/a | 146.64 | 124.42 | 99.62 | 85.62 | 78.27 | 70.09
Total Safety Margin | n/a | n/a | 22.21 | 47.01 | 61.01 | 68.36 | 76.55
* Partial County.

This SIP revision satisfies the requirement of the CAA for the second 10-year updates for the Raleigh/Durham area and Greensboro/Winston-Salem/High Point area 1-hour ozone maintenance plans. Changes to the current maintenance plans include revisions to the emissions inventory for both on-road and non-road mobile sources, reflecting improved methodologies contained in the MOBILE6 and NONROAD emission models. New emissions data for the year 2000 and the projected years (2004, 2007, 2010, 2012 and 2015) have been calculated.

IV. Motor Vehicle Emissions Budgets

Maintenance plans and other control strategy SIPs create motor vehicle emission budgets (MVEBs) for criteria pollutants and/or their precursors to address pollution from cars and trucks. The MVEB is the portion of the total allowable emissions that is allocated to highway and transit vehicle use and emissions. The MVEB serves as a ceiling on emissions from an area's planned transportation system. The MVEB concept is further explained in the preamble to the November 24, 1993, Transportation Conformity Rule (58 FR 62188). The preamble also describes how to establish the MVEBs in the SIP and how to revise the MVEBs.

Under section 176(c) of the CAA, new transportation projects, such as the construction of new highways, must “conform” to (e.g., be consistent with) the part of the State's air quality plan that addresses pollution from cars and trucks. “Conformity” to the SIP means that transportation activities will not cause new air quality violations, worsen existing violations, or delay timely attainment of the national ambient air quality standards. If a transportation plan does not “conform,” most projects that would expand the capacity of roadways cannot go forward. Regulations at 40 CFR part 93 set forth EPA policy, criteria, and procedures for demonstrating and assuring conformity of such transportation activities to a SIP.

Specific MVEBs are defined for both VOC and NOX for the Raleigh/Durham and Greensboro/Winston-Salem/High Point areas in the North Carolina submittal. Pursuant to 40 CFR 93.124(d), North Carolina has elected to allocate subarea budgets for each of the counties (including partial counties) for the purpose of transportation conformity. With this allocation, each county must demonstrate conformity to the county-specific subarea budgets. Metropolitan Planning Organizations (MPOs) with planning area boundaries that cross county borders must coordinate to ensure that all applicable county-specific subarea budgets are met. The chart below provides a summary of the county-specific subarea budgets.

Raleigh/Durham Area MVEB
[Tons per day]
County | Pollutant | 2004 | 2007 | 2010 | 2012 | 2015
Durham | VOC | 9.53 | 8.30 | 6.77 | 5.94 | 5.26
| NOX | 19.61 | 15.29 | 11.35 | 9.09 | 6.49
Granville* | VOC | 0.66 | 0.55 | 0.46 | 0.41 | 0.37
| NOX | 1.96 | 1.46 | 1.13 | 0.89 | 0.62
Wake | VOC | 22.19 | 20.04 | 17.36 | 15.64 | 14.35
| NOX | 51.08 | 41.38 | 29.90 | 24.41 | 17.90
*Partial County.

Greensboro/Winston-Salem/High Point Area MVEB
[Tons per day]
County | Pollutant | 2004 | 2007 | 2010 | 2012 | 2015
Davidson | VOC | 6.49 | 5.77 | 4.73 | 4.38 | 3.94
| NOX | 12.78 | 10.49 | 7.79 | 6.36 | 4.72
Davie* | VOC | 0.01 | 0.01 | 0.01 | 0.01 | 0.01
| NOX | 0.04 | 0.03 | 0.02 | 0.02 | 0.01
Forsyth | VOC | 13.77 | 12.06 | 9.93 | 9.12 | 8.14
| NOX | 24.18 | 19.53 | 14.49 | 11.83 | 8.79
Guilford | VOC | 20.21 | 17.55 | 14.32 | 13.10 | 11.66
| NOX | 34.03 | 27.28 | 20.11 | 16.44 | 12.18
*Partial County.

The MVEBs have been defined for each county for 2004, 2007, 2010, 2012 and 2015 in the State's submittal. The values for a given year are equal to the on-road mobile source projected level of emissions for that year plus an adjustment. The adjustments are allocations from the safety margins, which account for uncertainty in the projections. They are available because of significant reductions of VOC and NOX that have occurred, and are projected to occur, primarily due to mobile sources. The MVEBs are constrained in each of the budget years to assure that the total emissions (i.e., all source categories) do not exceed the 2000 base year emissions. In no case are the projected total emissions from mobile sources for any year greater than the base year emissions totals for either VOC or NOX.

Under 40 CFR 93.101, the term safety margin is the difference between the attainment level (from all sources) and the projected level of emissions (from all sources) in the maintenance plan. The attainment level of emissions is the level of emissions during one of the years in which the area met the air quality health standard. The safety margin credit can be allocated to the transportation sector, although the total emission level must stay below the attainment level.

Safety Margins—Raleigh/Durham Area
[Tons per day]
VOC | 2004 | 2007 | 2010 | 2012 | 2015
Safety Margin | 12.29 | 18.18 | 20.76 | 21.28 | 20.02
Allocated to MVEB | 2.67 | 4.20 | 3.92 | 3.67 | 3.61
Remaining Safety Margin | 9.62 | 13.98 | 16.84 | 17.61 | 16.41
NOX |  |  |  |  |
Safety Margin | 13.91 | 29.35 | 45.04 | 52.66 | 61.06
Allocated to MVEB | 6.00 | 6.23 | 5.20 | 4.49 | 3.63
Remaining Safety Margin | 7.91 | 23.12 | 39.84 | 48.17 | 57.43

Safety Margins—Greensboro/Winston-Salem/High Point Area
[Tons per day]
VOC | 2004 | 2007 | 2010 | 2012 | 2015
Safety Margin | 17.68 | 24.65 | 28.23 | 29.26 | 28.59
Allocated to MVEB | 0.00 | 2.00 | 1.64 | 2.85 | 3.09
Remaining Safety Margin | 17.68 | 22.65 | 26.59 | 26.41 | 25.50
NOX |  |  |  |  |
Safety Margin | 22.21 | 47.01 | 61.01 | 68.36 | 76.55
Allocated to MVEB | 0.00 | 3.24 | 2.40 | 2.27 | 2.34
Remaining Safety Margin | 22.21 | 43.77 | 58.61 | 66.09 | 74.21

V. Final Action

EPA is approving the second 10-year updates for the Raleigh/Durham and Greensboro/Winston-Salem/High Point 1-hour ozone maintenance plans. In this action EPA is approving the MVEBs for 2004, 2007, 2010, 2012, and 2015. The MVEBs for 2007, 2010, 2012, and 2015 for the Raleigh/Durham and Greensboro/Winston-Salem/High Point areas were previously found adequate for transportation conformity purposes. This finding of adequacy was announced in a letter to the State of North Carolina dated June 23, 2004 and was subsequently announced in the Federal Register (69 FR 43979, July 23, 2004). As a result of this prior adequacy determination, the MVEBs for 2007, 2010, 2012, and 2015 became available for use on August 9, 2004. As a result of today's SIP revision approval, the revised 2004 MVEBs and the MVEBs for 2007, 2010, 2012, and 2015 must be used for future transportation conformity determinations effective on November 19, 2004. The MVEBs, based on the on-road mobile sources, are to be used by the local metropolitan planning organizations and transportation authorities to assure that transportation plans, programs, and projects are consistent with, and conform to, the long term maintenance of acceptable air quality in the Raleigh/Durham and Greensboro/Winston-Salem/High Point areas.

The EPA is publishing this rule without prior proposal because the Agency views this as a noncontroversial submittal and anticipates no adverse comments. However, in the proposed rules section of this Federal Register publication, EPA is publishing a separate document that will serve as the proposal to approve the SIP revision should adverse comments be filed. This rule will be effective November 19, 2004, without further notice unless the Agency receives adverse comments by October 20, 2004.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on November 19, 2004, and no further action will be taken on the proposed rule. Please note that if we receive adverse comment on an amendment, paragraph, or section of this rule and if that provision may be severed from the remainder of the rule, we may adopt as final those provisions of the rule that are not the subject of an adverse comment.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 19, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Reporting and recordkeeping requirements, Volatile organic compounds.

Dated: September 8, 2004.
A. Stanley Meiburg,
Acting Regional Administrator, Region 4.

Part 52 of chapter I, title 40, Code of Federal Regulations, is amended as follows:

PART 52—[AMENDED]

1. The authority citation for part 52 continues to read as follows:

Authority: 42.U.S.C. 7401 et seq.

Subpart II—North Carolina

2. Section 52.1770 (e), is amended by adding two new entries at the end of the table for “10 Year Maintenance Plan Update for the Raleigh/Durham Area” and “10 Year Maintenance Plan Update for the Greensboro/Winston-Salem/High Point Area” to read as follows:

§ 52.1770 Identification of plan.

* * * * *

(e) * * *

EPA Approved North Carolina Non-Regulatory Provisions
Provision | State effective date | EPA approval date | Federal Register citation
* * * * * * *
10 Year Maintenance Plan Update for the Raleigh/Durham Area | 6/4/04 | 9/20/04 | [Insert citation of publication]
10 Year Maintenance Plan Update for the Greensboro/Winston-Salem/High Point Area | 6/4/04 | 9/20/04 | [Insert citation of publication]

[FR Doc. 04-21060 Filed 9-17-04; 8:45 am]

BILLING CODE 6560-50-P